NATIONAL SCIENCE FOUNDATION

National Science Board and Its Subdivisions; Meetings

Date and Time: August 9-10, 2006.

Wednesday, August 9, 2006—8:15 a.m.-4:45 p.m.

8:15-9:15—open;

9:15-10—open;

10-10:45—open;

10:45-11:30—open;

11:30-12:30—open;

1:30-2:20—open;

2:20-4—closed;

4-4:15—closed;

4:15-4:30—open;

4:30-4:45—closed.

Thursday, August 10, 2006—8 a.m.-3:30 p.m.

8-9:30—open;

9:30-10:30—open;

10:30-11—closed;

11-11:30—open;

11:30-12—closed;

1-1:15—closed;

1:15-1:30—closed;

1:30-3:30—open.

Place: National Science Foundation, 4201 Wilson Blvd, Room 1235, Arlington, VA 22230.

Public Meeting Attendance: All visitors must report to the NSF's visitor's desk at the 9th and N. Stuart Streets entrance to receive a visitor's badge.

Contact Information: Please refer to the National Science Board Web site (www.nsf.gov/nsb) for updated schedule. NSB Office: Dr. Robert Webber, (703) 292-7000.

Status: Part of this meeting will be closed to the public. Part of this meeting will be open to the public.

Matters To Be Considered:

Wednesday, August 9, 2006

Open

CPP Subcommittee on Polar Issues (8:15 a.m.-9:15 a.m.)

• Chairman's Remarks

• Approval of Minutes

• Astrophysics and South Pole Infrastructure

• New View on Arctic Climate History

• Ice Sheets

• IPY Solicitations

CPP Task Force on Hurricane Science and Engineering (9:15 a.m.-10 a.m.)

• Approval of Minutes for May 2006 Meeting

• Discussion of Draft Hurricane Science and Engineering Report

• Future Activities of the Task Force

CPP Task Force on Transformative Research (10 a.m.-10:45 a.m.)

• Approval of Minutes for May 2006 Meeting

• Outcomes of Previous TR Workshops—Draft Report

CPP Task Force on International Science (10:45 a.m.-11:30 a.m.)

• Approval of Minutes

• Summary of the May 11 Hearing and Roundtable Discussion

• Discussion of Items To Come Out of the Task Force's Series of Roundtable Discussions

• Discussion of Future Task Force Activities, Including the Roundtable Discussion Scheduled for September 25, 2006 in Singapore

Committee on Programs and Plans (11:30 a.m.-12:30 p.m.)

• Approval of May 10, 2006 CPP Minutes

• Status Reports:

○ Task Force on Transformative Research

○ Task Force on Hurricane Science and Engineering and Dr. Ken Ford

○ Subcommittee on Polar Issues

○ Task Force on International Science

• Discussion Item: NSB Policy on Recompetition of NSF Awards

• Update: NSF's Cyberinfrastructure Vision

• NSB Information Item: NSF Activities in High Performance Computing: Status of the Petascale System Acquisition

Committee on Programs and Plans Open: (1:30 p.m.-2:20 p.m.)

• NSB Information Item: EarthScope Facility Construction Project

• Update: Major Research Facilities & Facility Plan

• Overview of Process for CPP/NSB Re-examination of Priority Order for New Start MREFC Projects

Executive Committee Open: (4:15 p.m.-4:30 p.m.)

• Approval of Minutes for May 2006 Meeting

• Updates or New Business From Committee Members

Closed

Committee on Programs and Plans Closed: (2:20 p.m.-4 p.m.)

• Awards and Agreements

Committee on Programs and Plans Executive Closed: (4 p.m.-4:15 p.m.)

• Awards and Agreements

Executive Committee Closed (4:30 p.m.-4:45 p.m.)

• Specific Personnel Matters

• Future Budgets

Thursday, August 10, 2006

Open

EHR Subcommittee on Science and Engineering Indicators (8 a.m.-9:30 a.m.)

• Approval of May Minutes

• Chairman's Remarks

• What Is Science and Engineering Indicators?

• Role of S&E Indicators Subcommittee

• Introduction of Key NSBO and SRS Staff

• Discussion of Science and Engineering Indicators Chapters

• Introduction to Condensed Version of Indicators and Companion Piece

• Key Board Dates and Activities for Production of Science and Engineering Indicators 2008

• Chairman's Summary

Committee on Audit and Oversight Open: (9:30 a.m.-10:30 a.m.)

• Approval of Minutes of May, 2006 Meeting

• Report by NSF Advisory Committee on GPRA Performance Assessment (ACGPA) Status of Financial Audit Procurement

• CFO Update

Committee on Strategy and Budget Open: (11 a.m.-11:30 a.m.)

• Approval of May 9, 2006 CSB Minutes

• Status of FY 2007 Budget Request to Congress

• Discussion of NSF Strategic Plan FY 2006-2011

Closed

Committee on Audit and Oversight Closed: (10:30 a.m.-11 a.m.)

• Budget

• Pending Investigations

Committee on Strategy and Budget Closed (11:30 a.m.-12 noon)

• Approval of CSB Closed Session Teleconference Minutes

• Discussion of NSF FY 2008 Budget Request

Plenary Sessions of the Board (1 p.m.-3:30 p.m.)

Plenary Executive Closed (1 p.m.-1:15 p.m.)

• Approval of May 2006 Minutes

• Re-examination of Priority Order of MREFC

Plenary closed (1:15 p.m.-1:30 p.m.)

• Approval of May 2006 Minutes

• Awards and Agreements

• Closed Committee Reports

Plenary Open (1:30 p.m.-3:30 p.m.)

• Approval of May 2006 Minutues

• Resolution to Close September 2006 Meeting

• Chairman's Report

• Director's Report

• Open Committee Reports

Michael P. Crosby,
Executive Officer and NSB Office Director.

[FR Doc. 06-6718 Filed 8-2-06; 8:45 am]

BILLING CODE 7555-01-M